NUCLEAR REGULATORY COMMISSION

[NRC-2022-0042]

Service Contract Inventory

AGENCY: Nuclear Regulatory Commission.

ACTION: Notice of availability.

SUMMARY: The U.S. Nuclear Regulatory Commission (NRC) is publishing this notice to advise the public of the availability of its Fiscal Year (FY) 2020 Service Contract Inventory and FY 2019 Service Contract Inventory Analysis. The NRC's FY 2020 Service Contract Inventory is included as part of a Government-wide service contract inventory. The inventory includes covered service contracts that were awarded in FY 2020. The FY 2019 Inventory Analysis provides information on specific contract actions that were analyzed as part of the NRC's FY 2019 Service Contract Inventory.

DATES: March 4, 2022.

ADDRESSES: Please refer to Docket ID NRC-2022-0042 when contacting the NRC about the availability of information regarding this document. You may obtain publicly available information related to this document using any of the following methods:

• Federal Rulemaking website: Go to https://www.regulations.gov and search for Docket ID NRC-2022-0042. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209 or 301-415-4737, or by email to PDR.Resource@nrc.gov. The FY 2019 Service Contract Inventory Analysis can be found in ADAMS under Accession No. ML21356A579. The FY 2017 Service Contract Inventory Analysis was published on the NRC's public website at the following location: https://www.nrc.gov/about-nrc/contracting.html.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

• Availability of the Service Contract Inventory: The NRC's FY 2020 Service Contract Inventory data is included in a Government-wide service contract inventory that was published at the following location: https://www.acquisition.gov/service-contract-inventory.

FOR FURTHER INFORMATION CONTACT: Jill Daly, Office of Administration, U.S. Nuclear Regulatory Commission, Washington, DC 20555-0001; telephone: 301-415-8079 or email: Jill.Daly@nrc.gov.

SUPPLEMENTARY INFORMATION: In accordance with Section 743 of Division C of the FY 2010 Consolidated Appropriations Act, Public Law 111-117, the NRC is publishing this notice to advise the public of the availability of its FY 2018 Service Contract Inventory and FY 2017 Service Contract Inventory Analysis.

The inventory provides information on service contracts with a value of $150,000.00 or more that were awarded in FY 2020. The inventory includes the following:

1. A description of the services purchased;

2. The role the contracted services played in achieving agency objectives;

3. The dollar amount obligated for the services under the contract, and the funding source for the contract;

4. The contract type and date of the award;

5. The name of the contractor and place of performance;

6. The dollar amount invoiced for services under the contract;

7. The number and work location of contractor and first-tier subcontractor employees, expressed as full-time equivalents for direct labor, compensated under the contract;

8. Whether the contract is a personal services contract; and

9. Whether the contract was awarded on a non-competitive basis.

The FY 2019 Inventory Analysis provides information on specific service contract actions that were analyzed as part of the NRC's FY 2019 Service Contract Inventory.

The purpose of the analysis is to determine if contract labor is being used in an effective and appropriate manner and if the mix of federal employees and contractors in the agency is effectively balanced.

Dated: February 28, 2022.
For the Nuclear Regulatory Commission.
Eleni Jernell,
Division Director, Acquisition Management Division, Office of Administration.

[FR Doc. 2022-04523 Filed 3-3-22; 8:45 am]

BILLING CODE 7590-01-P